DEPARTMENT OF HEALTH AND HUMAN SERVICES

Administration for Children and Families

Announcement of the Award of Single-Source Grants Under the Wilson-Fish Alternative Program (W-F); Correction; CFDA Number: 93.583

AGENCY: Office of Refugee Resettlement, ACF, HHS.

ACTION: Notice; correction.

SUMMARY: The Administration for Children and Families (ACF), Office of Refugee Resettlement (ORR), published a document in the Federal Register of August 22, 2016, concerning the announcement of the award of 13 single-source grants for a total of $35,513,938 under the W-F Alternative Program. The document contained an incorrect address and telephone number.

FOR FURTHER INFORMATION CONTACT: Colleen Mahar-Piersma, Program Analyst, Office of Refugee Resettlement, Mary E. Switzer Building, 330 C Street SW., Washington, DC 20201. Telephone: 202-205-5266; Email: colleen.mahar-piersma@acf.hhs.gov.

Correction

In the Federal Register of August 22, 2016, in FR Doc. 2016-19923, on page 56655, in the third column, correct the FOR FURTHER INFORMATION CONTACT caption to read: Colleen Mahar-Piersma, Program Analyst, Office of Refugee Resettlement, Mary E. Switzer Building, 330 C Street SW., Washington, DC 20201. Telephone: 202-205-5266; Email: colleen.mahar-piersma@acf.hhs.gov.

Mary M. Wayland,
Senior Grants Policy Specialist, Division of Grants Policy, Office of Administration.

[FR Doc. 2016-21038 Filed 8-31-16; 8:45 am]

BILLING CODE 4184-01-P